DEPARTMENT OF HOMELAND SECURITY

U.S. Customs and Border Protection

Delay of Transition of Test Program Regarding Electronic Foreign Trade Zone; Admission Applications From the Automated Commercial System to the Automated Commercial Environment

AGENCY: U.S. Customs and Border Protection, Department of Homeland Security.

ACTION: Delay of transition of test program.

SUMMARY: On August 16, 2017, U.S. Customs and Border Protection (CBP) published a notice in the Federal Register announcing plans to make the Automated Commercial Environment (ACE) the sole electronic data interchange (EDI) system authorized by the Commissioner of CBP for processing electronic Foreign Trade Zone (FTZ) admission applications. The changes announced in that notice were to become operational on September 16, 2017. This notice announces that the date for the transition to ACE as the sole CBP-authorized EDI system for electronic FTZ admission applications is delayed until December 9, 2017.

DATES: As of December 9, 2017, ACE will be the sole CBP-authorized EDI system for processing electronic FTZ admission applications, and the Automated Commercial System (ACS) will no longer be a CBP-authorized EDI system for purposes of processing these filings.

FOR FURTHER INFORMATION CONTACT: For operational questions, contact Lydia Jackson, Cargo & Conveyance Security, Office of Field Operations, U.S. Customs and Border Protection, via email at Lydia.A.Jackson@cbp.dhs.gov. For technical questions, contact Tonya Perez, Cargo Systems Program Directorate, Office of Information and Technology, U.S. Customs and Border Protection, via email at Tonya.M.Perez@cbp.dhs.gov.

SUPPLEMENTARY INFORMATION: On August 16, 2017, U.S. Customs and Border Protection (CBP) published a notice in the Federal Register (82 FR 38923) announcing plans to make the Automated Commercial Environment (ACE) the sole electronic data interchange (EDI) system authorized by the Commissioner of U.S. Customs and Border Protection (CBP) for processing electronic Foreign Trade Zone (FTZ) admission applications, as of September 16, 2017. The document also announced that, on September 16, 2017, the Automated Commercial System (ACS) would no longer be a CBP-authorized EDI system for purposes of processing these electronic filings. Further, the document announced that the test program would be extended until a decision is reached to implement the program on a permanent basis and/or to conclude the test. Finally, the notice clarified that the list of data elements required for the electronic FTZ admission application must include the “Zone ID,” and reminded test participants that they must provide the data elements “Steel Import License Number” and “Kimberley Process Certificate Number” to CBP.

CBP has been assessing stakeholder readiness for the mandatory transition of electronic FTZ admission applications from ACS to ACE. CBP has determined that industry partners need additional time to prepare for the transition to electronic capabilities in ACE.

Accordingly, all the changes announced in the August 16, 2017 Federal Register notice, including the transition to ACE as the sole CBP-authorized EDI system for electronic FTZ admission applications, will not be operational until December 9, 2017.

Dated: September 11, 2017.
Todd C. Owen,
Executive Assistant Commissioner, Office of Field Operations.

[FR Doc. 2017-19669 Filed 9-14-17; 8:45 am]

BILLING CODE 9111-14-P